DEPARTMENT OF THE INTERIOR

Bureau of Land Management

[CA-180]

Meeting of the Central California Resource Advisory Council

ACTION: Notice of public meeting.

SUMMARY: In accordance with the Federal Land Policy and Management Act (FLPMA) and the Federal Advisory Committee Act of 1972 (FACA), the U.S. Department of the Interior, Bureau of Land Management (BLM) Central California Resource Advisory Council (RAC) will meet as indicated below.

DATES: The meeting will be held Thursday, Friday and Saturday, June 23, 24, and 25, 2005. On Thursday, the RAC will meet at 7 p.m. in Amante's Restaurant, 3300-C Coach Lane, Cameron Park, California, for dinner and a briefing on the Bureau's Wild and Scenic River study process. On Friday, June 24, the RAC will travel along the South Fork of the American River in El Dorado County from Chili Bar to the Cronan Ranch, arriving at the Cronan Ranch at about 4 p.m. During the trip, the RAC will hear speakers on Wild and Scenic River issues. At the Cronan Ranch, the RAC will hear both advocates and opponents of the federal Wild and Scenic River program. On Saturday, June 25, the RAC will meet in formal session in the Conference Room of the Cameron Park Best Western Inn, 3361 Coach Lane, Cameron Park, California, from 9 a.m. until 12 noon. There will be a public comment period on Saturday, June 25 from 10:30 a.m. until 11 a.m.

FOR FURTHER INFORMATION CONTACT: Deane Swickard, Field Manager, 63 Natoma Street, Folsom, CA 95630, telephone (916) 985-4474.

SUPPLEMENTARY INFORMATION: The twelve-member Central California Resource Advisory Council advises the Secretary of the Interior, through the Bureau of Land Management, on a variety of public land issues associated with public land management in Central California. At this meeting, agenda topics include a discussion of possible Wild and Scenic River status for the South Fork of the American River. The RAC will also hear status reports from the Bakersfield, Bishop, Folsom, and Hollister Field Office Managers.

The meeting is open to the public. The public may present written comments to the Council, and time will be allocated for hearing public comments. Depending on the number of persons wishing to comment and the time available, the time for individual oral comments may be limited. Individuals who plan to attend and need special assistance such as sign language interpretation or other reasonable accommodations should contact the BLM as indicated above.

Dated: April 27, 2005.
D.K. Swickard,
Folsom Field Office Manager.

[FR Doc. 05-8750 Filed 5-2-05; 8:45 am]

BILLING CODE 4310-40-M